DEPARTMENT OF THE INTERIOR

Bureau of Land Management

[LLWYR05000.L1610000.XP0000; WYW168593]

Public Land Order No. 7868; Withdrawal of Public Lands To Protect the Johnny Behind the Rocks Recreation Zone; Wyoming

AGENCY: Bureau of Land Management, Interior.

ACTION: Public Land Order.

SUMMARY: This order withdraws 4,564.75 acres of public lands from location and entry under the United States Mining Laws, subject to valid existing rights, but not from leasing under the mineral or geothermal leasing laws, for a period of 20 years, for the protection of cultural and recreational resources associated with the Johnny Behind the Rocks Recreation Zone.

DATES: This Public Land Order takes effect on June 8, 2018.

FOR FURTHER INFORMATION CONTACT: Keesha Cary, Bureau of Land Management (BLM) Wyoming State Office, 5353 N Yellowstone Road, P.O. Box 1828, Cheyenne, Wyoming 82003, 307-775-6189. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM will manage the lands to protect the cultural and recreational resources associated with the recreation area.

Order

By virtue of the authority vested in the Secretary of the Interior by Section 204 of the Federal Land Policy and Management Act of 1976, 43 U.S.C. 1714, it is ordered as follows:

1. Subject to valid existing rights, the following-described public lands are hereby withdrawn from location and entry under the United States mining laws, but not from leasing under the mineral or geothermal leasing laws, to protect the cultural and recreational resources associated with the site:

Sixth Principal Meridian, Wyoming

T. 31 N, R. 98 W,

Sec. 3, lots 3 and 4;

Sec. 4, lot 1;

Sec. 5, lot 1.

T. 32 N, R. 98 W,

Sec. 17, SW¼, and SW¼SE¼;

Sec. 18, lots 9 thru 12, and SE¼;

Sec. 19, lots 5 thru 10, and E½;

Sec. 20, NW¼NE¼, S½NE¼, NW¼, and S½;

Sec. 21, W½SW¼;

Sec. 28, W½, and W½SE¼;

Sec. 29;

Sec. 30, NE¼;

Sec. 32, N½, NE¼SW¼, and SE¼;

Sec. 33;

Sec. 34, NW¼SW¼, S½SW, and SW¼SE¼.

T. 32 N, R. 99 W,

Sec. 13, E½SE¼;

Sec. 24, SE¼NE¼.

The area described aggregates approximately 4,564.75 acres in Fremont County.

2. The withdrawal made by this Order does not alter the applicability of the public land laws other than the mining laws.

3. This withdrawal will expire 20 years from the effective date of this Order, unless, as a result of a review conducted before the expiration date pursuant to Section 204(f) of the Federal Land Policy and Management Act of 1976, 43 U.S.C. 1714(f), the Secretary determines that the withdrawal shall be extended.

Dated: June 4, 2018.
Ryan K. Zinke,
Secretary of the Interior.

[FR Doc. 2018-12381 Filed 6-7-18; 8:45 am]

BILLING CODE 4310-22-P